DEPARTMENT OF COMMERCE

National Oceanic and Atmospheric Administration

Science Advisory Board (SAB); Notice of Public Meeting

AGENCY: Office of Oceanic and Atmospheric Research (OAR), National Oceanic and Atmospheric Administration (NOAA), Department of Commerce (DOC).

ACTION: Notice of public meeting.

SUMMARY: This notice sets forth the schedule and proposed agenda of a forthcoming meeting of the NOAA Science Advisory Board. The members will discuss and provide advice on issues outlined in the section on Matters to be considered.

TIME AND DATE: The meeting is scheduled for February 10, 2017 from 4:00 p.m. to 5:30 p.m. Eastern Standard Time.

ADDRESSES: Conference call. Public access is available at: NOAA, SSMC 3, Room 11836, 1315 East-West Highway, Silver Spring, MD. Members of the public will not be able to dial in to this meeting.

Status: The meeting will be open to public participation with a 5-minute public comment period at 5:20 p.m. Eastern Standard Time. The SAB expects that public statements presented at its meetings will not be repetitive of previously submitted verbal or written statements. In general, each individual or group making a verbal presentation will be limited to a total time of one minute. Written comments should be received in the SAB Executive Director's Office by February 3 to provide sufficient time for SAB review. Written comments received by the SAB Executive Director after February 3, will be distributed to the SAB, but may not be reviewed prior to the meeting date.

Special Accommodations: These meetings are physically accessible to people with disabilities. Requests for special accommodations may be directed no later than 12 p.m. on February 3, Dr. Cynthia Decker, SAB Executive Director, SSMC3, Room 11230, 1315 East-West Hwy., Silver Spring, MD 20910; Email: Cynthia.Decker@noaa.gov.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Matters To Be Considered: The meeting will include the following topics: (1) NOAA Update; (2) Discussion of SAB Transition Activities; (3) Update on Final SAB Subcommittee Concept of Operations and Processes and (4) Framing the SAB Work Plan for the Future. For the latest agenda, please visit the SAB Web site at http://www.sab.noaa.gov.

FOR FURTHER INFORMATION CONTACT: Dr. Cynthia Decker, SAB Executive Director, SSMC3, Room 11230, 1315 East-West Hwy., Silver Spring, MD 20910; Email: Cynthia.Decker@noaa.gov or visit the NOAA SAB Web site at http://www.sab.noaa.gov.

Dated: January 13, 2017.
Jason Donaldson,
Chief Financial Officer and Chief Administrative Officer, Office of Oceanic and Atmospheric Research, National Oceanic and Atmospheric Administration.

[FR Doc. 2017-01439 Filed 1-19-17; 8:45 am]

BILLING CODE 3510-KD-P